DEPARTMENT OF ENERGY

Federal Energy Regulatory Commission

Combined Notice of Filings #1

Take notice that the Commission received the following exempt wholesale generator filings:

Docket Numbers: EG24-128-000.

Applicants: Revolution Wind, LLC.

Description: Revolution Wind, LLC submits Notice of Self-Certification of Exempt Wholesale Generator Status.

Filed Date: 3/8/24.

Accession Number: 20240308-5116.

Comment Date: 5 p.m. ET 3/29/24.

Docket Numbers: EG24-129-000.

Applicants: South Fork Wind, LLC.

Description: South Fork Wind, LLC submits Notice of Self-Certification of Exempt Wholesale Generator Status.

Filed Date: 3/8/24.

Accession Number: 20240308-5117.

Comment Date: 5 p.m. ET 3/29/24.

Take notice that the Commission received the following Complaints and Compliance filings in EL Dockets:

Docket Numbers: EL24-84-000.

Applicants: SER Capital Partners, LLC.

Description: Petition for Declaratory Order of SER Capital Partners, LLC.

Filed Date: 3/7/24.

Accession Number: 20240307-5264.

Comment Date: 5 p.m. ET 4/8/24.

Take notice that the Commission received the following electric rate filings:

Docket Numbers: ER24-1188-001.

Applicants: PJM Interconnection, L.L.C.

Description: Tariff Amendment: Amendment of Amended WMPA, Service Agreement No. 6023; AE1-109 to be effective 4/3/2024.

Filed Date: 3/8/24.

Accession Number: 20240308-5053.

Comment Date: 5 p.m. ET 3/29/24.

Docket Numbers: ER24-1426-000.

Applicants: MidAmerican Energy Company.

Description: § 205(d) Rate Filing: MidAmerican-Mean Transmission Revenue Credits Agmt to be effective 6/1/2024.

Filed Date: 3/7/24.

Accession Number: 20240307-5234.

Comment Date: 5 p.m. ET 3/28/24.

Docket Numbers: ER24-1427-000.

Applicants: Midcontinent Independent System Operator, Inc., Ameren Illinois Company.

Description: § 205(d) Rate Filing: Midcontinent Independent System Operator, Inc. submits tariff filing per 35.13(a)(2)(iii: 2024-03-08_SA 3534 Termination of Sch A-1 of Ameren-SIPC EAAS Agmt to be effective 2/23/2024.

Filed Date: 3/8/24.

Accession Number: 20240308-5013.

Comment Date: 5 p.m. ET 3/29/24.

Docket Numbers: ER24-1428-000.

Applicants: Midcontinent Independent System Operator, Inc., American Transmission Company LLC.

Description: § 205(d) Rate Filing: Midcontinent Independent System Operator, Inc. submits tariff filing per 35.13(a)(2)(iii: 2024-03-08_SA 4202 ATC-WEPCo 1st Rev PCA #2023-08 to be effective 3/9/2024.

Filed Date: 3/8/24.

Accession Number: 0240308-5019.

Comment Date: 5 p.m. ET 3/29/24.

Docket Numbers: ER24-1429-000.

Applicants: Midcontinent Independent System Operator, Inc., American Transmission Company LLC.

Description: § 205(d) Rate Filing: Midcontinent Independent System Operator, Inc. submits tariff filing per 35.13(a)(2)(iii: 2024-03-08_SA 4249 ATC-Vista Sands Solar E&P (J2185 J2107 J2099) to be effective 5/8/2024.

Filed Date: 3/8/24.

Accession Number: 20240308-5025.

Comment Date: 5 p.m. ET 3/29/24.

Docket Numbers: ER24-1430-000.

Applicants: 2569848 Alberta ULC.

Description: § 205(d) Rate Filing: Notice of Succession to Algonquin Hydro Holdings Corp. to be effective 2/16/2024.

Filed Date: 3/8/24.

Accession Number: 20240308-5038.

Comment Date: 5 p.m. ET 3/29/24.

Docket Numbers: ER24-1431-000.

Applicants: Southwestern Public Service Company.

Description: § 205(d) Rate Filing: 2024.03.08—SPS Production Depreciation and Template Modifications to be effective 5/8/2024.

Filed Date: 3/8/24.

Accession Number: 20240308-5043.

Comment Date: 5 p.m. ET 3/29/24.

Docket Numbers: ER24-1432-000.

Applicants: Southwest Power Pool, Inc.

Description: § 205(d) Rate Filing: OG&E Formula Rate Revisions to Incorporate Changes Accepted in ER24-718 to be effective 2/19/2024.

Filed Date: 3/8/24.

Accession Number: 20240308-5054.

Comment Date: 5 p.m. ET 3/29/24.

Docket Numbers: ER24-1433-000.

Applicants: PacifiCorp.

Description: Tariff Amendment: Const Agmt Idaho Fall/Sugarmill 46 kV Differential—Notice of Termination to be effective 5/6/2024.

Filed Date: 3/8/24.

Accession Number: 20240308-5082.

Comment Date: 5 p.m. ET 3/29/24.

Docket Numbers: ER24-1434-000.

Applicants: Central Hudson Gas & Electric Corporation, New York Independent System Operator, Inc.

Description: § 205(d) Rate Filing: Central Hudson Gas & Electric Corporation submits tariff filing per 35.13(a)(2)(iii: Central Hudson 205 re: Proposed Rate Schedule 21 to be effective 5/8/2024.

Filed Date: 3/8/24.

Accession Number: 20240308-5086.

Comment Date: 5 p.m. ET 3/29/24.

Docket Numbers: ER24-1435-000.

Applicants: PJM Interconnection, L.L.C.

Description: § 205(d) Rate Filing: Amendment to ISA, Service Agreement No. 2360; AD2-133/Q36 to be effective 5/8/2024.

Filed Date: 3/8/24.

Accession Number: 20240308-5127.

Comment Date: 5 p.m. ET 3/29/24.

Docket Numbers: TX24-3-000.

Applicants: Energia Sierra Juarez, S. de R.L. de C.V.

Description: Application for Order Directing Transmission Service and Interconnection of Facilities of Energia Sierra Juarez, S. de R.L. de C.V.

Filed Date: 3/6/24.

Accession Number: 20240306-5193.

Comment Date: 5 p.m. ET 3/27/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 8, 2024.
Debbie-Anne A. Reese,
Acting Secretary.

[FR Doc. 2024-05417 Filed 3-13-24; 8:45 am]

BILLING CODE 6717-01-P